DEPARTMENT OF EDUCATION

[CFDA No. 84.351D]

Arts in Education Model Development and Dissemination Grant Program; Notice Inviting Applications for New Grant Awards for Fiscal Year (FY) 2001 Funds

Note to Applicants: This notice is a complete application package. Together with the statute authorizing these grants and the Education Department General Administrative Regulations (EDGAR), this notice contains all of the information, application forms, and instructions needed to apply for an Arts in Education Model Development and Dissemination Grant Program under this competition. This grant program is authorized by 20 U.S.C. 8091.

Purpose of Program: The Arts in Education Model Development and Dissemination Grant Program will support the development, documentation, evaluation, and dissemination of innovative, cohesive models that have demonstrated effectiveness in effectively (1) integratinge arts into the core elementary and middle school curricula, (2) strengthening arts instruction in these grades, and (3) improving students' academic performance, including their skills in creating, performing, and responding to the arts.

Eligible Applicants: (1) One or more local educational agencies (LEAs), that may work in partnership with one or more of the following:

State or local non-profit or governmental arts organization;

State educational agencies or regional educational service agencies;

Institutions of higher education; and/or

Other public and private agencies, institutions, and organizations with expertise in the arts.

(2) One or more state or local non-profit or governmental arts organizations that must work in partnership with one or more LEAs and may partner with one or more of the following:

State educational agencies or regional educational service agencies;

Institutions of higher education; and/or

Other public and private agencies, institutions, and organizations with expertise in the arts.

Note: If more than one LEA and/or arts organization wish to form a consortia and jointly submit a single application, they must follow the procedures for group applications described in 34 CFR 75.127-129 of EDGAR.

E-Mail Notification of Intent to Apply for Funding: The Department will be able to develop a more efficient process for reviewing grant applications if it has an estimate of the number of entities that intend to apply for funding under this competition. Therefore, the Secretary strongly encourages each potential applicant to notify the Department with a short e-mail noting the intent to submit an application for funding. The e-mail need not include information regarding the content of the proposed application, only the applicant's intent to submit. The Secretary requests that this e-mail notification be sent no later than June 15, 2001. The e-mail notification should be sent to: artsdemos@ed.gov.

Applicants that fail to provide this e-mail notification may still apply for funding.

Deadline for Transmittal of Applications: July 16, 2001.

Deadline for Intergovernmental Review: September 13, 2001.

Estimated Available Funds: $10,000,000.

Estimated Range of Awards: $350,000-$1,000,000 (total for the project period).

Project Period: Up to 36 months.

Applicants for multi-year awards are required to provide detailed budget information for the total grant period requested. The Secretary will determine at the time of the initial award the funding levels for each year of the grant award. The Department of Education is not bound by any estimates in this notice.

Note: To provide the applicant with the capacity to effectively plan for and carry out the comprehensive long-term activities involved in model development, documentation, evaluation, and dissemination the Secretary anticipates awarding the entire grant amount for the project at the time of the initial award.

Page Limits: Applicants are strongly encouraged to limit the application narrative to no more than 30 double-spaced pages. The following standards are preferred: (1) A “page” is 8.5″ x 11″ (one side only) with one-inch margins (top, bottom, and sides). (2) All text in the application narrative must be double spaced. The page limit does not apply to the cover sheet, the one-page abstract, budget section, appendices, and forms and assurances. However, all of the application narrative must be included in the narrative section.

Applicable Regulations: The Education Department General Administrative Regulations (EDGAR) in 34 CFR parts 75, 77, 79, 80, 81, 82, 85, 86, 97, 98, and 99.

SUPPLEMENTARY INFORMATION: While many schools and districts have moved swiftly in recent years to reform and enhance traditional core academic programs, most have not made similar efforts to integrate arts effectively into the regular curriculum, either as vehicle by which to strengthen other core academic subjects or as an academic discipline in its own right. High-quality programs effectively integrating and improving arts instruction are increasingly important as students face the demands of the information age in the 21st century. Creating, performing, and responding to works of art build creativity, self-confidence, and critical thinking skills “ qualities central to success in school, work, and life.

For several reasons, high-quality arts and art education programs have implications for students' other academic development. First, most educators agree that arts-rich education programs keep students engaged and interested in school. For example, James Catterall's work suggests that students who participate in arts programs, especially students identified as at-risk of educational failure, are less likely to drop out of school (See Catterall, et al. in Champions of Change at: http://artsedge.kennedy-center.org/champions). Additionally, research studies suggest that involvement in arts-rich schooling affects students' success in other academic areas (See also Burton, et al. in Champions). In a study reanalyzing the cross-sectional National Educational Longitudinal Survey (NELS) data, for example, Catterall found that students in learning environments with diverse, high-quality arts education offerings had higher achievement than students in arts-poor communities, even when controlling for students' socioeconomic background. Sustained involvement in particular arts disciplines, like music and theater, seemed to be highly correlated with success in traditional academic subjects like math and reading. These studies have also found that improving the quality of arts education has a particularly positive impact on students from low-income backgrounds. Unfortunately, students from low socioeconomic backgrounds are almost twice as likely to attend arts-poor schools, while students from socio-economically advantaged backgrounds are twice as likely to attend arts-rich schools (Catterall, et al.)

To ensure that high expectations are held for all of America's students, it is critical to assess and develop high-quality, research-based models for effectively integrating arts into the regular school curricula, both as a core academic content area and as a means for strengthening other core academic areas. The Arts in Education Model Development and Dissemination Grant Program seeks to redress the lack of information in this area by encouraging partnerships of arts and education specialists to develop and document effective models for improving arts education and student achievement “ particularly for students from poor and disadvantaged backgrounds. The Department of Education intends to disseminate the results of this program to other educational entities.

Program Description: The Arts in Education Model Development and Dissemination Grant Program is authorized under section 10401, Part D, Subpart 1 of Title X of the Elementary and Secondary Education Act. The Arts in Education Model Development and Dissemination Grant Program will further the development of innovative, cohesive models that have demonstrated effectiveness in integrating arts into the school curriculum. In this case, “integrating” should be understood both as strengthening the use of high-quality arts in the course of other academic instruction and strengthening the place of arts as a core academic subject in the regular school curricula.

These grants are designed to enable LEAs and organizations with art expertise to further develop and create materials for the replication or adaptation of current comprehensive approaches for integrating a range of arts disciplines—such as music, dance, theater, and visual arts, including folk arts in these fields—into the elementary and middle school curricula. Such development work should yield more systematic information about effective models that provide quality arts instruction and use the arts to enhance instruction in other core academic subjects. The goal of the Arts in Education Model Development and Dissemination Grant Program is to bring to the field additional models with a solid research base for effectively integrating the arts, in the same way that solid research bases have been developed for instruction in other fields, such as reading.

Under this program, applicants should propose projects that may include but are not limited to the following components:

Field testing and evaluating promising new educational strategies;

Field testing and evaluating model in-service and pre-service professional development programs;

Ensuring comprehensive coverage of the arts disciplines—such as visual arts, dance, music, theater, and the folk arts in these areas;

Developing partnerships among schools, arts organizations, and others with expertise in the arts to enhance the quality and sustainability of effective programming;

Creating materials documenting the implementation and achievement of the model program for other educators and agencies; and

Obtaining the services of outside experts to assist with program implementation, curriculum development, data collection, evaluation design or other appropriate activities.

This program seeks to increase the research base and provide communities with additional information regarding innovative, research-based models for effectively integrating and strengthening arts instruction and improving students' skills in creating, performing, and responding to works of arts, as well as achievement in other core academic subjects. In addition to any dissemination work in which the applicants choose to engage, the Department intends to take the products and information resulting from these demonstration grants and share them widely with other communities. Upon completion of the project, the Department requires that any materials or products developed as a part of model development activities be provided to the Department for further dissemination. Such activities will be carried out in full compliance with copyright requirements.

Application Content: To apply for Arts in Education Model Development and Dissemination funds, applicants must be prepared to: further the development of programs designed to improve or expand the integration of arts education in elementary or middle school curricula; develop materials designed to help replicate or adapt the program; document the program's results and benefits; and develop products and services that can be used to replicate the program in other settings. Thus, grant applications must describe an existing set of strategies for integrating the arts into the regular elementary and middle school curriculum which could successfully be implemented, expanded, documented, evaluated, and disseminated. Taken together, a research-based, comprehensive Arts in Education Model will:

Be based, to the extent possible, on the most rigorous theory, research, and evaluation available and effective in improving student achievement and performance and other program objectives.

Be linked to state and national standards enabling all students to meet challenging expectations, and improving student and school performance.

Have the potential to improve students' achievement both in creating, performing, and responding to works of art, and in other core academic subjects.

Highlight the development of model professional development for arts educators and other instructional staff.

Include multiple partners and effectively combine resources to create quality, sustainable programs.

Demonstrate the feasibility of further replication and dissemination.

Be applicable to a broad range of high poverty and disadvantaged, rural and urban schools, including those that are chronically low-performing.

Make effective use of technology to further the model's goals.

Describe methods by which the applicant will assess the model's outcomes.

Additionally, grant applicants should describe activities which, to the extent possible, coordinate model development with relevant activities of public and private cultural agencies, institutions, and organizations, including museums, arts education associations, libraries, and theaters. (20 U.S.C. 8091(e)(1))

Waiver of Proposed Rulemaking: In accordance with the Administrative Procedure Act (5 U.S.C. 553), it is the practice of the Secretary to offer interested parties the opportunity to comment on proposed rules. Section 437(d)(1) of the General Education Provisions Act (GEPA), however, allows the Secretary to exempt from rulemaking requirements governing the first grant competition under a new or substantially revised program authority (20 U.S.C. 1232(d)(1)). Funding was provided for this new initiative in the fiscal year 2001 Department of Education Appropriations Act, enacted in December 2000. As this competition is the first under this program, it therefore qualifies for the exemption. The Secretary, in accordance with section 437(d)(1) of GEPA, has decided to forego public comment in order to ensure timely grant awards.

Absolute Priority: The Secretary will only fund applications from LEAs or non-profit organizations which propose to work with at least one elementary and/or middle school with no less than 35% of its students from low-income families consistent with section 1113(b)(1)(A) of Title I of the Elementary and Secondary Education Act.

Competitive Priority: The Secretary will award five (5) points, in addition to any points the applicant earns under the selection criteria, to projects proposing models that involve schools in rural or inner-city communities.

Invitational Priority: The Secretary strongly encourages applicants to bring together a partnership of educational and arts-based entities as well as other community resources to carry out activities designed under this program. Partnerships among these entities are important to ensure the quality of programming as well as the sustainability of the activities.

Definition: In addition to definitions in the statute and EDGAR, the following definition applies:

Research-based, when used with respect to an activity or a program, means that, to the extent possible, the activity or program is based on the most rigorous theory, research, and evaluation available and effective in improving student achievement and performance and other program objectives.

Selection Criteria: The Secretary uses the following selection criteria to evaluate applications for grants under this competition. In all instances where the word “project” appears in the selection criteria, the reference to an Arts in Education Model Development and Dissemination grant program should be made.

The maximum composite score for all of these criteria is 100 points. The maximum score an applicant may receive is 105 if they meet the competitive priority.

The maximum score for each criterion is indicated in parentheses. Within each criterion, the Secretary evaluates each factor equally.

(a) Need for project. (10 points)

In determining the need for the proposed project, the Secretary considers the following factors:

(i) The extent to which the model addresses specific needs of students at risk of educational failure.

(ii) The extent to which specific gaps, weaknesses, or opportunities have been identified in effectively integrating arts into the core curricula, strengthening arts instruction and improving students' academic performance, including skills in creating, performing and responding to the arts. Also, the nature and magnitude of those gaps or weaknesses and the degree to which they will be addressed by the proposed model.

(b) Significance. (20 points)

In determining the significance of the proposed project, the Secretary considers the following factors:

(i) The potential contribution of the proposed project to increase knowledge and understanding of effective strategies for strengthening the use of high-quality arts in the course of other academic instruction and the place of arts as a core academic subject in the regular school curricula.

(ii) The likely utility and replicability of the proposed model and the extent to which its products (including information, materials, processes, or techniques) will be effective in a variety of settings.

(c) Quality of the project design. (30 points)

In determining the quality of the design of the proposed project, the Secretary considers the following factors:

(i) The extent to which the goals, objectives, and results to be achieved over the proposed project period are clearly specified and measurable.

(ii) The extent to which the proposed model is based on reliable research, effective practice and/or coherent theory regarding means for strengthening the use of high-quality arts in the course of other academic instruction and the place of arts as a core academic subject in the regular school curricula.

(iii) The extent to which the proposed model aims to strengthen the academic performance of students in creating, performing, and responding to multiple arts disciplines and other core academic areas.

(iv) The extent to which the project will document and evaluate the success of the model and disseminate relevant information.

(d) Quality of the management plan. (10 points)

In determining the quality of the management plan for the proposed project, the Secretary considers the following factors:

(i) The adequacy of the management plan to achieve the objectives of the proposed project on time and within a reasonable budget, including relevant contributions and commitments from partners, timelines, continuous improvement strategies and milestones for accomplishing project tasks.

(e) Quality of the project personnel. (5 points)

In determining the quality of the personnel plan for the proposed project, the Secretary considers the following factors:

(i) The qualifications, including relevant training and experience of key project personnel, major partners, project consultants and/or subcontractors and the extent to which personnel have clearly defined responsibilites.

(ii) The extent to which the applicant encourages applications for employment from persons who are members of groups that have traditionally been underrepresented based on race, color, national origin, gender, age, or disability.

(f) Quality of the project evaluation. (25 points)

In determining the quality of the evaluation, the Secretary considers the following factors:

(i) The extent to which the methods of evaluation are rigorous, thorough, feasible, and appropriate to the goals, objectives, and outcomes of the proposed project.

(ii) The extent to which the methods of evaluation include the use of objective performance measures that are clearly related to the intended outcomes of the project and will produce quantitative and qualitative data on the results of the program.

(iii) The extent to which the evaluation will provide guidance about effective strategies suitable for replication or testing in other settings.

Intergovernmental Review of Federal Programs

This program is subject to the requirements of Executive Order 12372 (Intergovernmental Review of Federal Programs) and the regulations in 34 CFR part 79. One of the objectives of the Executive order is to foster an intergovernmental partnership and a strengthened federalism. The Executive order relies on processes developed by State and local governments for coordination and review of proposed Federal financial assistance.

If you are an applicant, you must contact the appropriate State Single Point of Contact to find out about, and to comply with, the State's process under Executive Order 12372. Applicants proposing to perform activities in more than one State should immediately contact the Single Point of Contact for each of those States and follow the procedures established in each State under the Executive Order.

If you want to know the name and address of any State Single Point of Contact (SPOC), you may view the latest SPOC list on the OMB Web site at the following address: http://www.whitehouse.gov/omb/grants/spoc.html.

In States that have not established a process or chosen a program for review, State, area-wide, regional, and local entities may submit comments directly to the Department.

Any State Process Recommendation and other comments submitted by a State Single Point of Contact and any comments from State, area-wide, regional, and local entities must be mailed or hand-delivered by the date indicated in this notice to the following address: The Secretary, E.O. 12372-CFDA No. 84.351D, U.S. Department of Education, Room 7E200, 400 Maryland Avenue, SW., Washington, DC 20202-0125. Proof of mailing will be determined on the same basis as applications (see 34 CFR 75.102). Recommendations or comments may be hand-delivered until 4:30 p.m. (Eastern Standard Time) on the date indicated in this notice.

Please note that the above address is not the same address as the one to which the applicant submits its completed application. Do not send applications to the above address.

Instructions for Transmittal of Applications

(a) If an applicant wants to apply for a grant, the applicant must—

(1) Mail the original and two copies of the application on or before the deadline date to: U.S. Department of Education, Application Control Center, Attention: (CFDA No. 84.351D), Washington, DC 20202-4725, or

(2) Hand deliver the original and two copies of the application by 4:30 p.m. (Eastern Standard Time) on or before the deadline date to: U.S. Department of Education, Application Control Center, Attention: (CFDA No. 84.351D), Room 3633, Regional Office Building #3, 7th and D Streets, SW., Washington, D.C. 20202.

(b) An applicant must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

(c) If an application is mailed through the U.S. Postal Service, the Secretary does not accept either of the following as proof of mailing:

(1) A private metered postmark.

(2) A mail receipt that is not dated by the U.S. Postal Service.

Notes: (1) The U.S. Postal Service does not uniformly provide a dated postmark. Before relying on this method, an applicant should check with its local post office. (2) The Application Control Center will mail a Grant Application Receipt Acknowledgment to each applicant. If an applicant fails to receive the notification of application receipt within 15 days from the date of mailing the application, the applicant should call the U.S. Department of Education Application Control Center at (202) 708-9494. (3) The applicant must indicate on the envelope and—if not provided by the Department—in Item 3 of the Application for Federal Assistance (ED 424) the CFDA number—and suffix letter, if any—of the competition under which the application is being submitted.

Application Instructions and Forms

The appendix to this notice contains all required forms and instructions, including instructions for preparing the application narrative, a statement regarding estimated public reporting burden, a notice to applicants regarding compliance with section 427 of the General Education Provisions Act (GEPA), various assurances and certifications, a list of relevant definitions from the authorizing statute and EDGAR, and a checklist for applicants.

To apply for an award under this competition, your application must be organized in the following order and include the following four parts. The parts and additional materials are as follows:

Part I: Application for Federal Assistance (ED 424, Exp. 06/30/2001) and instructions.

Part II: Budget Information—Non-Construction Programs (ED Form No. 524) and instructions. An applicant for a multi-year project must provide a budget narrative that provides budget information for each budget period of the proposed project period.

Part III: Application Narrative.

Part IV: Assurances and Certifications: Assurances—Non-Construction Programs (Standard Form 424B).

b. Certifications Regarding Lobbying; Debarment, Suspension, and Other Responsibility Matters; and Drug-Free Workplace Requirements (ED 80-0013) and instructions.

c. Certifications Regarding Debarment, Suspension, Ineligibility and Voluntary Exclusion—Lower Tier Covered Transactions (ED 80-0014, 9/90) and instructions.

Note: ED Form 80-0014 is intended for the use of grantees and should not be transmitted to the Department.

d. Disclosure of Lobbying Activities (Standard Form LLL) (if applicable) and instructions.

An applicant may submit information on photostatic copies of the application, budget forms, assurances, and certifications as printed in this notice in the Federal Register. However, the application form, assurances, and certifications must each have an original signature. All applicants are required to submit ONE original signed application, including ink signatures on all forms and assurances, and TWO copies of the application, one bound and one unbound copy suitable for photocopying. Please mark each application as “original” or “copy”. To aid with the review of applications, the Department also encourages applicants to submit two additional paper copies of the application (five total). The Department will not penalize applicants who do not provide additional copies. No grant may be awarded unless a completed application form, including the signed assurances and certifications, has been received.

FOR FURTHER INFORMATION CONTACT: Margaret McNeely or Gillian Cohen, Arts in Education Model Development and Dissemination Program, Academic Improvement and Demonstration Programs, Office of Elementary and Secondary Education, U.S. Department of Education, 400 Maryland Avenue, SW., Room 3W312, FOB-6, Washington, DC 20202. Telephone: (202) 260-1335 (Margaret McNeely) or (202) 260-7813 (Gillian Cohen) E-mail: artsdemos@ed.gov

Individuals who use a telecommunications device for the deaf (TDD) may call the Federal Information Relay Service (FIRS) at 1-800-877-8339.

Individuals with disabilities may obtain this notice in an alternate format (e.g., Braille, large print, audiotape, or computer diskette) on request to the contact person listed in the preceding paragraph. Please note, however, that the Department is not able to reproduce in an alternate format the standard forms included in the notice.

Electronic Access to This Document

You may view this document, as well as all other Department of Education documents published in the Federal Register, in text or Adobe Portable Document Format (PDF) on the Internet at either of the following site: www.ed.gov/legislation/FEDRegister.

To use PDF you must have Adobe Acrobat Reader, which is available free at the previous site. If you have questions about using the PDF, call the U.S. Government Printing Office (GPO) toll free at 1-888-293-6498, or in the Washington, DC area at 202-512-1530.

Note: The official version of this document is the document published in the Federal Register. Free Internet access to the official edition of the Federal Register and the Code of Federal Regulations is available on GPO Access at: http://www.access.gpo.gov/nara/index.html

Program Authority: 20 U.S.C. 8091.

Dated: May 10, 2001.
Thomas M. Corwin,
Acting Deputy Assistant Secretary for Elementary and Secondary Education.

Appendix—Instructions for the Application Narrative

The narrative is the section of the application where the selection criteria used by reviewers in evaluating the application are addressed. The narrative must encompass each function or activity for which funds are being requested. Before preparing the application narrative, an applicant should read carefully the description of the program and the selection criteria the Secretary uses to evaluate applications.

Applicants should note there is a suggested 30 page limit for the application narrative with the following standards applying: A “page” is 8.5″ x 11″ (one side only) with one-inch margins (top, bottom, and sides). All text in the application narrative must be double spaced. The suggested page limit does not apply to the cover sheet, the one-page abstract, budget section, appendices, and forms and assurances. However, all of the application narrative must be included in the narrative section.

Applicants are strongly encouraged to use the following format in developing applications:

1. Begin with a one-page Abstract summarizing the proposed Arts in Education Model Development and Dissemination project, including a description of project objectives and activities and any partners in the application. Also include a short description of the population to be served by the project.

2. Include a table of contents and be sure to number the pages.

3. Describe how the applicant meets the absolute priority and the competitive priority if necessary.

4. Describe fully the proposed project in light of the selection criteria in the order in which the criteria are listed in the application package. Do not simply paraphrase the criteria.

5. Provide the following in response to the attached “Notice to all Applicants”: (1) a reference to the portion of the application in which information appears as to how the applicant is addressing steps to promote equitable access and participation, or (2) a separate statement that contains that information.

6. When applying for funds as a consortium, individual eligible applicants must enter into an agreement signed by all members. The consortium's agreement must detail the activities each member of the consortium plans to perform, and must bind each member to every statement and assurance made in the consortium's application. The designated applicant must submit the consortium's agreement with its application.

7. Applicants may include supporting documentation as appendices to the narrative. This material should be concise and pertinent to the competition. Note that the Secretary considers only information contained in the application in ranking applications for funding consideration. Letters of support sent separately from the formal application package are not considered in the review by the technical review panels. (34 CFR 75.217)

8. Attach copies of all required assurances and forms.

Estimated Public Reporting Burden

According to the Paperwork Reduction Act of 1995, no persons are required to respond to a collection of information unless it displays a valid OMB Control Number. The valid OMB control number for this information collection is 1810-NEW (Expiration Date: 05/31/2004). The time required to complete this information collection is estimated to average 60 hours per response, including the time to review instructions, search existing data resources, gather the data needed, and complete and review the information collection. If you have any comments concerning the accuracy of the time estimate or suggestions for improving this form, please write to: Arts in Education Model Development Program, U.S. Department of Education, 400 Maryland Avenue, SW., Room 3W312 or 5C145, Washington, DC 20202-4651.

If you have comments or concerns regarding the status of your individual submission of this form, write directly to: Arts in Education Model Development Program, U.S. Department of Education, 400 Maryland Avenue, SW., Room 3W312 or 5C145, Washington, DC 20202-4651.

Checklist for Applicants

The following forms and other items must be included in the application in the order listed below:

1. Application for Federal Assistance (ED 424).

2. Budget Information—Non-Construction Programs (ED Form No. 524) and budget narrative.

3. Application Narrative, including information that addresses section 427 of the General Education Provisions Act (see the section entitled “Notice to All Applicants”), and relevant appendices.

4. Consortia agreement, if applicable.

5. Assurances—Non-Construction Programs (SF 242B).

6. Certifications Regarding Lobbying; Debarment, Suspension, and Other Responsibility Matters; and Drug-Free Workplace Requirements (ED 80-0013).

7. Disclosure of Lobbying Activities (Standard Form LLL).

BILLING CODE 4000-01-U

[FR Doc. 01-12329 Filed 5-15-01; 8:45 am]

BILLING CODE 4000-01-C